DEPARTMENT OF TRANSPORTATION

Federal Aviation Administration

14 CFR Part 97

[Docket No. 31382; Amdt. No. 3967]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 5, 2021. The compliance date for each SIAP, associated Takeoff Minimums, and ODP is specified in the amendatory provisions.

The incorporation by reference of certain publications listed in the regulations is approved by the Director of the Federal Register as of August 5, 2021.

ADDRESSES: Availability of matters incorporated by reference in the amendment is as follows:

For Examination

1. U.S. Department of Transportation, Docket Ops-M30. 1200 New Jersey Avenue SE, West Bldg., Ground Floor, Washington, DC 20590-0001.

2. The FAA Air Traffic Organization Service Area in which the affected airport is located;

3. The office of Aeronautical Information Services, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on July 23, 2021.
Wade E.K. Terrell,
Aviation Safety, Flight Standards Service, Manager (A), Flight Technologies and Procedures Division.

Adoption of the Amendment

Accordingly, pursuant to the authority delegated to me, Title 14, Code of Federal Regulations, Part 97 (14 CRF part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 9 September 2021

Marathon, FL, KMTH, RNAV (GPS) RWY 7, Orig-B

Lincoln Park, NJ, N07, RNAV (GPS) RWY 1, Amdt 1

Lincoln Park, NJ, N07, RNAV (GPS) RWY 19, Amdt 1

Effective 7 October 2021

Koyukuk, AK, Koyukuk, DIBVY THREE Graphic DP

Port Alsworth, AK, Wilder Runway, LLC, MARVN ONE Graphic DP

Port Alsworth, AK, PAKX, RNAV (GPS) RWY 6R, Orig

Port Alsworth, AK, Wilder Runway, LLC, Takeoff Minimums and Obstacle DP, Orig

Talladega, AL, KASN, RNAV (GPS) RWY 4, Amdt 2A

Blytheville, AR, KHKA, RNAV (GPS) RWY 18, Orig-A

Blytheville, AR, KHKA, RNAV (GPS) RWY 36, Orig-B

Corning, AR, 4M9, RNAV (GPS) RWY 18, Orig-D

Corning, AR, 4M9, RNAV (GPS) RWY 36, Orig-E

Crossett, AR, KCRT, RNAV (GPS) RWY 23, Orig-D

Crossett, AR, KCRT, VOR-A, Orig-D, CANCELLED

Hope, AR, M18, RNAV (GPS) RWY 4, Orig-A

Hope, AR, M18, RNAV (GPS) RWY 22, Orig-A

Lake Village, AR, M32, VOR-A, Amdt 8C, CANCELLED

Mc Gehee, AR, 7M1, VOR/DME-A, Amdt 3, CANCELLED

Monticello, AR, KLLQ, RNAV (GPS) RWY 3, Amdt 1E

Monticello, AR, KLLQ, VOR-A, Amdt 6C, CANCELLED

Pine Bluff, AR, KPBF, ILS OR LOC RWY 18, Amdt 3E

Los Angeles, CA, KLAX, ILS OR LOC RWY 25L, ILS RWY 25L (CAT II), ILS RWY 25L (CAT III), Amdt 14D

Los Angeles, CA, KLAX, RNAV (RNP) Z RWY 24R, Amdt 1D

Oakdale, CA, O27, RNAV (GPS) RWY 10, Amdt 2A

Redlands, CA, Redlands Muni, Takeoff Minimums and Obstacle DP, Orig-B

Denver, CO, KDEN, ILS OR LOC RWY 34L, ILS RWY 34L (SA CAT I), ILS RWY 34L (CAT II), ILS RWY 34L (CAT III), Amdt 2C

Denver, CO, KDEN, RNAV (GPS) Y RWY 34L, Amdt 2D

Immokalee, FL, KIMM, RNAV (GPS) RWY 36, Amdt 1B

Lakeland, FL, Lakeland Linder Intl, Takeoff Minimums and Obstacle DP, Amdt 1C

Orlando, FL, KMCO, ILS OR LOC RWY 18R, Amdt 11A

Orlando, FL, KMCO, RNAV (GPS) RWY 18R, Amdt 2A

Quincy, FL, 2J9, RNAV (GPS)-A, Orig

Quincy, FL, 2J9, VOR/DME-A, Amdt 1, CANCELLED

Washington, GA, KIIY, VOR/DME RWY 13, Amdt 3B, CANCELLED

Ankeny, IA, KIKV, RNAV (GPS) RWY 22, Amdt 1A

Jefferson, IA, KEFW, NDB RWY 32, Amdt 6A, CANCELLED

Jefferson, IA, KEFW, RNAV (GPS) RWY 14, Amdt 1

Jefferson, IA, KEFW, RNAV (GPS) RWY 32, Amdt 1

Jefferson, IA, Jefferson Muni, Takeoff Minimums and Obstacle DP, Amdt 4

Mapleton, IA, KMEY, RNAV (GPS) RWY 2, Orig-C

Lewiston, ID, KLWS, RNAV (RNP) Z RWY 12, Orig-B

Cairo, IL, KCIR, NDB RWY 14, Amdt 2C, CANCELLED

Cairo, IL, KCIR, RNAV (GPS) RWY 32, Orig-C

Decatur, IL, KDEC, VOR RWY 36, Amdt 17A

Freeport, IL, KFEP, ILS OR LOC RWY 24, Orig-B

Freeport, IL, KFEP, RNAV (GPS) RWY 24, Amdt 1B

Freeport, IL, KFEP, VOR RWY 24, Amdt 7A, CANCELLED

Peoria, IL, KPIA, ILS OR LOC RWY 4, ILS RWY 4 (SA CAT I), ILS RWY 4 (SA CAT II), Amdt 4

Peoria, IL, KPIA, VOR OR TACAN RWY 13, Amdt 24

Poplar Grove, IL, C77, RNAV (GPS)-A, Orig

Poplar Grove, IL, C77, VOR-A, Orig, CANCELLED

Rochelle, IL, KRPJ, VOR-A, Amdt 8B, CANCELLED

Griffith, IN, Griffith-Merrill Ville, Takeoff Minimums and Obstacle DP, Amdt 4B

Seymour, IN, KSER, RNAV (GPS) RWY 14, Amdt 1A

Warsaw, IN, KASW, ILS OR LOC RWY 27, Amdt 2

Warsaw, IN, KASW, RNAV (GPS) RWY 9, Amdt 1

Warsaw, IN, KASW, RNAV (GPS) RWY 27, Amdt 1

Warsaw, IN, Warsaw Muni, VOR RWY 9, Amdt 6, CANCELLED

Abilene, KS, Abilene Muni, Takeoff Minimums and Obstacle DP, Orig-B

Elkhart, KS, KEHA, RNAV (GPS) RWY 4, Amdt 1C

Elkhart, KS, KEHA, RNAV (GPS) RWY 17, Amdt 1C

Elkhart, KS, KEHA, RNAV (GPS) RWY 22, Amdt 1C

Elkhart, KS, KEHA, RNAV (GPS) RWY 35, Amdt 1D

Mc Pherson, KS, KMPR, VOR RWY 36, Amdt 6C

Neodesha, KS, Neodesha Muni, Takeoff Minimums and Obstacle DP, Orig-A

New Orleans, LA, KMSY, ILS OR LOC RWY 2, Amdt 20

New Orleans, LA, KMSY, RNAV (GPS) RWY 2, Amdt 3

Boston, MA, General Edward Lawrence Logan Intl, Takeoff Minimums and Obstacle DP, Amdt 15

Carrabassett, ME, B21, RNAV (GPS)-A, Amdt 1

Detroit, MI, KYIP, RNAV (GPS) RWY 5L, Amdt 1B, CANCELLED

Detroit, MI, KYIP, RNAV (GPS) RWY 23R, Amdt 1B, CANCELLED

Manistee, MI, KMBL, VOR RWY 10, Amdt 1B, CANCELLED

Detroit Lakes, MN, KDTL, RNAV (GPS) RWY 32, Amdt 2A

Fairmont, MN, KFRM, RNAV (GPS) RWY 31, Orig-B

Marshall, MN, KMML, RNAV (GPS) RWY 30, Orig-C

Caruthersville, MO, M05, VOR/DME RWY 18, Orig-B, CANCELLED

Dexter, MO, KDXE, VOR/DME RWY 36, Amdt 6A, CANCELLED

Houston, MO, Houston Meml, Takeoff Minimums and Obstacle DP, Amdt 1

Kennett, MO, KTKX, VOR/DME RWY 20, Amdt 1A, CANCELLED

Kirksville, MO, KIRK, ILS OR LOC RWY 36, Amdt 1C

Macon, MO, K89, VOR RWY 2, Amdt 2, CANCELLED

Moberly, MO, KMBY, RNAV (GPS) RWY 13, Orig-C

Moberly, MO, KMBY, VOR/DME-A, Amdt 4, CANCELLED

Monroe City, MO, K52, RNAV (GPS) RWY 9, Orig-B

New Madrid, MO, KEIW, VOR/DME-A, Amdt 4A, CANCELLED

Tarkio, MO, K57, RNAV (GPS) RWY 18, Amdt 1

Tarkio, MO, K57, RNAV (GPS) RWY 36, Amdt 1

Tarkio, MO, Gould Peterson Muni, Takeoff Minimums and Obstacle DP, Amdt 2

Hattiesburg-Laurel, MS, KPIB, RNAV (GPS) RWY 18, Amdt 1A

Hamilton, MT, 6S5, RNAV (GPS)-A, Orig-A, CANCELLED

Hamilton, MT, 6S5, RNAV (GPS)-B, Orig-A, CANCELLED

Hardin, MT, 00U, RNAV (GPS) RWY 26, Amdt 1

Elkin, NC, KZEF, NDB-A, Orig, CANCELLED

Kindred, ND, K74, RNAV (GPS) RWY 11, Amdt 1E

Kindred, ND, K74, RNAV (GPS) RWY 29, Amdt 1E

Watford City, ND, Watford City Muni, Takeoff Minimums and Obstacle DP, Amdt 2

Burwell, NE, KBUB, RNAV (GPS) RWY 33, Orig-B

Lincoln, NE, KLNK, ILS Y OR LOC Y RWY 18, Amdt 7C

Lincoln, NE, KLNK, ILS Y OR LOC Y RWY 36, Amdt 11K

Lincoln, NE, KLNK, VOR Y RWY 18, Amdt 13B

Dayton, OH, KDAY, ILS OR LOC RWY 24R, Amdt 10B

Hamilton, OH, KHAO, ILS OR LOC RWY 29, Amdt 2A

Waverly, OH, KEOP, RNAV (GPS) RWY 7, Amdt 1B

Waverly, OH, KEOP, RNAV (GPS) RWY 25, Amdt 1B

Corvallis, OR, KCVO, RNAV (GPS) RWY 17, Amdt 1B

Corvallis, OR, KCVO, RNAV (GPS) RWY 35, Amdt 3A

La Grande, OR, KLGD, NDB-B, Amdt 2

La Grande, OR, La Grande/Union County, Takeoff Minimums and Obstacle DP, Amdt 4

Conway, SC, KHYW, NDB RWY 4, Orig-D

Huron, SD, Huron Rgnl, Takeoff Minimums and Obstacle DP, Amdt 5A

Clarksville, TN, KCKV, RNAV (GPS) RWY 17, Amdt 1B

Dyersburg, TN, Dyersburg Rgnl, Takeoff Minimums and Obstacle DP, Amdt 1A

Dyersburg, TN, KDYR, VOR-A, Amdt 18B, CANCELLED

Memphis, TN, KMEM, RNAV (GPS) Z RWY 18C, Amdt 2C

Memphis, TN, KMEM, RNAV (GPS) Z RWY 18L, Amdt 2E

Memphis, TN, KMEM, RNAV (GPS) Z RWY 18R, Amdt 2G

Comanche, TX, KMKN, RNAV (GPS) RWY 35, Orig-B

Houston, TX, KHOU, RNAV (GPS) RWY 17, Amdt 1B, CANCELLED

Houston, TX, KHOU, RNAV (GPS) RWY 35, Amdt 1C, CANCELLED

Houston, TX, William P Hobby, Takeoff Minimums and Obstacle DP, Amdt 7A

Midland, TX, KMAF, RADAR 1, Amdt 7A, CANCELLED

Van Horn, TX, KVHN, RNAV (GPS) RWY 21, Orig-B

Martinsville, VA, KMTV, RNAV (GPS) RWY 13, Amdt 2A

Highgate, VT, KFSO, RNAV (GPS) RWY 19, Amdt 2

Land O' Lakes, WI, Kings Land O' Lakes, Takeoff Minimums and Obstacle DP, Amdt 5

Wheeling, WV, KHLG, ILS OR LOC RWY 3, Amdt 23A

[FR Doc. 2021-16584 Filed 8-4-21; 8:45 am]

BILLING CODE 4910-13-P